ENVIRONMENTAL PROTECTION AGENCY

[EPA-HQ-OPPT-2015-0084; FRL-9942-68]

1-Bromopropane (1-BP); Availability of TSCA Work Plan Chemical Risk Assessment for Public Review and Comment

AGENCY: Environmental Protection Agency (EPA).

ACTION: Notice.

SUMMARY: With this notice, EPA is announcing the availability of and opening the public comment period for the draft TSCA Work Plan Chemical risk assessment for 1-Bromopropane (1-BP). EPA develops TSCA Work Plan Chemical assessments using the best available information and approaches. These assessments focus on those TSCA uses of the chemical with significant potential for exposure to humans and/or the environment. EPA issues draft risk assessments for public review and comment, followed by independent peer review in accordance with Agency peer review guidelines. The Agency considers all public and peer review comments as it revises and finalizes the risk assessment. Based on the final TSCA risk assessment, the Agency may either initiate risk reduction actions that are necessary to address the potential risks identified, or may conclude its work on the chemical uses being assessed if no risks are found.

DATES: Comments must be received on or before May 9, 2016.

ADDRESSES: Submit your comments, identified by docket identification (ID) number EPA-HQ-OPPT-2015-0084, by one of the following methods:

• Federal eRulemaking Portal: http://www.regulations.gov. Follow the online instructions for submitting comments. Do not submit electronically any information you consider to be Confidential Business Information (CBI) or other information whose disclosure is restricted by statute.

• Mail: Document Control Office (7407M), Office of Pollution Prevention and Toxics (OPPT), Environmental Protection Agency, 1200 Pennsylvania Ave. NW., Washington, DC 20460-0001.

• Hand Delivery: To make special arrangements for hand delivery or delivery of boxed information, please follow the instructions at: http://www.epa.gov/dockets/contacts.html.

Additional instructions on commenting or visiting the docket, along with more information about dockets generally, are available at http://www.epa.gov/dockets.

FOR FURTHER INFORMATION CONTACT: For technical information contact: Stan Barone, Risk Assessment Division (7403M), Office of Pollution Prevention and Toxics, Environmental Protection Agency, 1200 Pennsylvania Ave. NW., Washington, DC 20460-0001; telephone number: (202) 564-1169; email address: barone.stan@epa.gov.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

This action is directed to the public in general, and may be of interest to a wide range of stakeholders including those interested in environmental and human health; the chemical industry; chemical users; consumer product companies and members of the public interested in the assessment of chemical risks. Since others also may be interested, the Agency has not attempted to describe all the specific entities that may be affected by this action.

B. What should I consider as I prepare my comments for EPA?

1. Submitting CBI. Do not submit this information to EPA through regulations.gov or email. Clearly mark the part or all of the information that you claim to be CBI. For CBI information on a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. What action is the Agency taking?

EPA is announcing the availability of and opening the public comment period for the 1-Bromopropane (1-BP) TSCA Work Plan Chemical draft risk assessment. EPA also invites comments on whether there are other uses that may result in high potential worker and consumer exposures that the Agency should consider for future assessment and/or collection priorities for this chemical. Use the specific docket ID number provided in this notice to locate a copy of the chemical-specific document, as well as to submit comments via http://www.regulations.gov.

Docket ID Number: EPA-HQ-OPPT-2015-0084.

Title: TSCA Work Plan Chemical Risk Assessment for 1-Bromopropane (n-Propyl Bromide): Spray adhesives, dry cleaning, and degreasing uses.

Chemical Covered: 1-Bromopropane (n-Propyl Bromide) (1-BP; CASRN 106-94-5).

Summary: 1-BP is a colorless liquid with a sweet hydrocarbon odor that is used as a solvent in degreasing applications, spray adhesives, and in dry cleaning. 1-BP is produced or imported to the U.S. in large quantities (over 15 million pounds in 2011). This draft assessment focuses on human health risks to workers and consumers from acute (short-term) and chronic inhalation exposures associated with 1-BP use in spray adhesives, dry cleaning, and degreasing uses. EPA reviewed the evidence for 1-BP toxicity and identified risks for cancer (in workers) and adverse developmental effects (in consumers and workers). Other health risks identified for workers with chronic 1-BP exposures include adverse neurologic effects, as well as kidney, liver, and reproductive effects.

If you have any questions about this draft risk assessment, or the Agency's programs in general, please contact the person listed under FOR FURTHER INFORMATION CONTACT.

Authority: 15 U.S.C. 2601 et. seq.

Dated: March 2, 2016.
Wendy C. Hamnett,
Director, Office of Pollution Prevention and Toxics.

[FR Doc. 2016-05176 Filed 3-7-16; 8:45 am]

BILLING CODE 6560-50-P